COMMITTEE FOR PURCHASE FROM PEOPLE WHO ARE BLIND OR SEVERELY DISABLED

Procurement List; Addition and Deletions

AGENCY: Committee for Purchase From People Who Are Blind or Severely Disabled

ACTION: Additions to and deletions from Procurement List.

SUMMARY: This action adds to the Procurement List a product to be furnished by nonprofit agencies employing persons who are blind or have other severe disabilities, and deletes from the Procurement List services previously furnished by such agencies.

DATES: Effective May 22, 2005.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, telephone: (703) 603-7740, Fax: (703) 603-0655, or e-mail SKennerly@jwod.gov.

SUPPLEMENTARY INFORMATION:

Addition

On February 4, 2005, the Committee for Purchase From People Who Are Blind or Severely Disabled published notice (70 FR 5964) of proposed additions to the Procurement List.

After consideration of the material presented to it concerning capability of qualified nonprofit agencies to provide the product and impact of the additions on the current or most recent contractors, the Committee has determined that the products listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product to the Government.

2. The action will result in authorizing small entities to furnish the product to the Government.

3. There are no known regulatory alternatives which would accomplish the objectives of the Javits-Wagner-O'Day Act (41 U.S.C. 46-48c) in connection with the product proposed for addition to the Procurement List.

End of Certification

Accordingly, the following product is added to the Procurement List:

Product

Product/NSN: Can, Friction Top.

8110-00-178-8289 (Round, ½ pint cap),

8110-00-178-8290 (Round, 1 pint cap).

NPA: East Texas Lighthouse for the Blind, Tyler, Texas.

Contracting Activity: Defense Supply Center Philadelphia, Philadelphia, Pennsylvania.

Deletions

On February 25, 2005, the Committee for Purchase From People Who Are Blind or Severely Disabled published notice (70 FR 9269) of proposed deletions to the Procurement List. After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Janitorial/Custodial, Internal Revenue Service, Pendleton Trade Center, Indianapolis, Indiana.

NPA: GW Commercial Services, Inc., Indianapolis, Indiana.

Contracting Activity: GSA, PBS.

Service Type/Location: Janitorial/Custodial, Iowa Air National Guard, 185th Air National Guard Base, Sioux City, Iowa.

NPA: Goodwill Community Rehabilitation Services, Inc., Sioux City, Iowa.

Contracting Activity: Department of the Air Force.

Service Type/Location: Janitorial/Custodial, Paul B. Dunbar Building, Cincinnati, Ohio.

NPA: Ohio Valley Goodwill Industries Rehabilitation Center, Inc., Cincinnati, Ohio.

Contracting Activity: General Services Administration.

Service Type/Location: Sorting of Aperture Cards, EDCARS System Management Office, Wright-Patterson AFB, Ohio.

NPA: Clark County Board of Mental Retardation & Developmental Disabilities, Springfield, OH.

Contracting Activity: Department of the Air Force.

Sheryl D. Kennerly,
Director, Information Management.

[FR Doc. E5-1916 Filed 4-21-05; 8:45 am]

BILLING CODE 6353-01-P